OFFICE OF GOVERNMENT ETHICS

Proposed Collection; Comment Request for Unmodified SF 278 Executive Branch Personnel Public Financial Disclosure Report

AGENCY: Office of Government Ethics (OGE).

ACTION: Notice.

SUMMARY: After this first round notice and public comment period, OGE plans to submit the Standard Form (SF) 278 for extension of approval (up to three years) by Office of Management and Budget

(OMB) under the Paperwork Reduction Act. The SF 278 is henceforth to be accompanied by agency notification to filers of the adjustment of the gifts/travel reimbursements reporting thresholds and, when final, the revisions to the Privacy Act Statement. Both revisions will not be incorporated into the form itself at this time, since OGE plans a more thorough revision of the form in the next year or two.

DATES: Comments on this proposed extension should be received by March 24, 2003.

ADDRESSES: Comments should be sent to Mary T. Donovan, Office of Administration and Information Management, Office of Government Ethics, Suite 500, 1201 New York Avenue, NW., Washington, DC 20005-3917. Comments may also be sent electronically to OGE's Internet E-mail address at usoge@oge.gov. For E-mail messages, the subject line should include the following reference—“Paperwork comment on the SF 278.”

FOR FURTHER INFORMATION CONTACT: Ms. Donovan at the Office of Government Ethics; telephone: 202-208-8000, ext. 1185; FAX: 202-208-8038. A copy of a blank SF 278 may be obtained, without charge, by contacting Ms. Donovan. Also, a copy of a blank SF 278 is available through the Forms, Publications & Other Ethics Documents section of OGE's Web site at http://www.usoge.gov.

SUPPLEMENTARY INFORMATION: The Office of Government Ethics is planning to submit, after this notice and comment period, the unmodified Standard Form 278 Executive Branch Personnel Public Financial Disclosure Report (OMB control number 3209-0001) for extension of approval for (up to) three years by OMB under the Paperwork Reduction Act of 1995 (44 U.S.C. chapter 35). The current paperwork approval for the SF 278 is scheduled to expire at the end of March 2003. Since, for now, no modification to this standard form is being proposed, OGE will not seek any General Services Administration (GSA) standard forms clearance for this extension.

The Office of Government Ethics, as the supervising ethics office for the executive branch of the Federal Government under the Ethics in Government Act (the Ethics Act), is the sponsoring agency for the Standard Form 278. In accordance with section 102 of the Ethics Act, 5 U.S.C. app. section 102, and OGE's implementing financial disclosure regulations at 5 CFR part 2634, the SF 278 collects pertinent financial information from certain officers and high-level employees in the executive branch for conflicts of interest review and public disclosure. The financial information collected under the statute and regulations relate to: assets and income; transactions; gifts, reimbursements and travel expenses; liabilities; agreements or arrangements; outside positions; and compensation over $5,000 paid by a source—all subject to various reporting thresholds and exclusions.

The Office of Government Ethics notes two changes (discussed below) affecting the content of SF 278s. The first change concerns the recent adjustments in the gifts/reimbursements reporting thresholds. The second change involves the routine use language contained in the Privacy Act Statement of the form that will be revised in 2003. For now, OGE is proposing no revisions to the SF 278, but rather asks that executive branch departments and agencies inform SF 278 filers, through cover memorandum or otherwise, of these two changes when the existing March 2000 edition of SF 278 report forms are provided for completion. In addition, information regarding these changes is being posted on OGE's Web site.

Effective January 1, 2002, GSA raised “minimal value” under the Foreign Gifts and Decorations Act, 5 U.S.C. 7342, to $285 or less for the three-year period 2002-2004. See 67 FR 56495-56496 (September 4, 2002). As a result, OGE has advised agencies and revised its financial disclosure regulations to reflect the increase in the thresholds for SF 278 reporting of gifts and travel reimbursements received from any one source to “more than $285” for the aggregation level for reporting and to “$114 or less” for the de minimis aggregation exception threshold. These Ethics Act reporting thresholds are tied to any adjustment in foreign gifts minimal value over $250 (see 5 U.S.C. app. section 102(a)(2)(A) & (B)). See OGE's September 27, 2002 memorandum to designated agency ethics officials (DO-02-021) and 67 FR 61761-61762 (October 2, 2002). Both the GSA and OGE rulemakings and OGE's memorandum are posted on the OGE Web site.

In addition, OGE is in the process of updating the OGE/GOVT-1 system of records notice (covering SF 278 Public Financial Disclosure Reports and other name-retrieved ethics program records). As a result, the Privacy Act Statement, which includes paraphrases of the routine uses on page 11 of the instructions on the SF 278, will be affected. A summary of the anticipated changes relevant to that SF 278 statement has been prepared for inclusion with the paperwork clearance submission to OMB. Once the new language in OGE's forthcoming Privacy Act notice is finalized (anticipated completion date is spring 2003), OGE will advise departments and agencies of the Privacy Act Statement changes (with notice to OMB at that time) without further paperwork clearance.

During the last session of Congress, a bill (S. 1811) was introduced to amend the Ethics in Government Act of 1978 (5 U.S.C. app.) to streamline the financial disclosure process for executive branch employees. The bill was not enacted, but may be introduced again in the current session of Congress. If the bill is enacted, the public financial disclosure requirements will change, and the SF 278 will have to be revised accordingly. At that time, OGE would seek paperwork renewal from OMB and standard form clearance from GSA for the revised SF 278.

For now, OGE will continue to make the unmodified SF 278 available to departments and agencies and their reporting employees through the Forms, Publications & Other Ethics Documents section of OGE's Web site. This allows employees two different fillable options for preparing their report on a computer (in addition to a downloadable blank form), although a printout and manual signature of the form are still required unless specifically approved otherwise by OGE.

The SF 278 is completed by candidates, nominees, new entrants, incumbents and terminees of certain high-level positions in the executive branch of the Federal Government. The Office of Government Ethics, along with the agencies concerned, conducts the review of the SF 278 reports of Presidential nominees subject to Senate confirmation. This group of nominee reports forms, together with those of terminees from such positions who may file after leaving the Government, forms the basis for OGE's paperwork estimates in this notice.

In light of OGE's experience over the past three years (1999-2001), the estimate of the total number, on average, of such nominees' SF 278 forms expected to be filed annually at OGE by members of the public (as opposed to current Federal employees) is 449. (The 2002 figures are not yet available.) This estimated number is based primarily on the forms processed at OGE by private citizen Presidential nominees to positions subject to Senate confirmation (and their private representatives—lawyers, accountants, brokers and bankers) and those who file termination reports from such positions after their Government service ends, as well as Presidential and Vice Presidential candidates who are private citizens. The OGE estimate covers the next three years, 2003-2005 including a significant increase in reports anticipated with the fall 2004 Presidential election and following transition. The prior paperwork burden estimate was 260 forms per year. The estimated average amount of time to complete the report form, including review of the instructions and gathering of needed information, remains the same at three hours. Thus, the overall estimated annual public burden for the SF 278 for the private citizen/representative nominee and terminee report forms processed at the Office of Government Ethics is being adjusted to 1,347 (from 780) hours.

Moreover, OGE estimates, based on the agency ethics program questionnaire responses for 1999-2001 (the 2002 figures are not available), that some 21,200 SF 278 report forms are filed annually at departments and agencies throughout the executive branch. Most of those executive branch filers are current Federal employees at the time they file, but certain candidates for President and Vice President, nominees, new entrants and terminees complete the form either before or after their Government service. The percentage of private citizen filers branchwide is estimated at no more than 5% to 10%, or some 1,060 to 2,120 per year at most.

Public comment is invited on each aspect of the SF 278 Public Financial Disclosure Report as set forth in this notice, including specifically views on the need for and practical utility of this collection of information, the accuracy of OGE's burden estimate, the potential for enhancement of quality, utility and clarity of the information collected, and the minimization of burden (including the use of information technology).

Any comments received in response to this notice will be summarized for, and may be included with, OGE's request for extension of OMB paperwork approval for this information collection. Comments will also become a matter of public record.

Approved: December 30, 2002.
Amy L. Comstock,
Director, Office of Government Ethics.

[FR Doc. 03-287 Filed 1-6-03; 8:45 am]

BILLING CODE 6345-02-P